DEPARTMENT OF COMMERCE

International Trade Administration

[A-570-601]

Tapered Roller Bearings and Parts Thereof, Finished and Unfinished, From the People's Republic of China: Final Results of Changed Circumstances Review and Reinstatement of Shanghai General Bearing Co., Ltd. in the Antidumping Duty Order

AGENCY: Enforcement and Compliance, International Trade Administration, Department of Commerce.

SUMMARY: On July 13, 2016, the Department of Commerce (the Department) published the preliminary results of the changed circumstances review and intent to reinstate Shanghai General Bearing Co., Ltd. (SGBC/SKF) in the antidumping duty order on tapered roller bearings and parts thereof, finished and unfinished, (TRBs) from the People's Republic of China (PRC). This review covers TRBs from the PRC manufactured and exported by SGBC/SKF. The period of review is June 1, 2014, through May 31, 2015. Based on our analysis of the comments received, we made changes to the margin calculations. Therefore, the final results differ from the preliminary results. Further, we continue to determine that SGBC/SKF sold TRBs at less than normal value (NV), and, as a result, we are reinstating SGBC/SKF in the antidumping order on TRBs from the PRC. The final weighted-average dumping margin is listed below in the section entitled “Final Results of Review.”

DATES: Effective January 17, 2017.

FOR FURTHER INFORMATION CONTACT: Alice Maldonado, Enforcement and Compliance, International Trade Administration, U.S. Department of Commerce, 1401 Constitution Avenue NW., Washington, DC 20230; telephone (202) 482-4682.

SUPPLEMENTARY INFORMATION:

Background

On July 13, 2016, the Department published the preliminary results of this changed circumstances review and intent to reinstate SGBC/SKF in the antidumping duty order on TRBs from the PRC.¹ This review covers TRBs from the PRC manufactured and exported by SGBC/SKF. The period of review is June 1, 2014, through May 31, 2015.

¹ See Tapered Roller Bearings and Parts Thereof, Finished and Unfinished, From the People's Republic of China: Preliminary Results of Changed Circumstances Review and Intent To Reinstate Shanghai General Bearing Co., Ltd. in the Antidumping Duty Order, 81 FR 45282 (July 13, 2016) (CCR Preliminary Results).

In August 2016, we received case briefs from the Timken Company (the petitioner) and SGBC/SKF; we also received a letter in lieu of a case brief from Stemco LP (Stemco), an interested party in the proceeding, in which Stemco supported the arguments made in the petitioner's case brief. In September 2016, we received rebuttal briefs from the petitioner and SGBC/SKF. In October 2016, the Department held a public hearing at the request of the petitioner.

The Department conducted this changed circumstances review in accordance with section 751(b)(1) of the Tariff Act of 1930, as amended (the Act) and 19 CFR 351.216(d).

Scope of the Order

The merchandise covered by the order ² includes tapered roller bearings and parts thereof, finished and unfinished, from the PRC; flange, take up cartridge, and hanger units incorporating tapered roller bearings; and tapered roller housings (except pillow blocks) incorporating tapered rollers, with or without spindles, whether or not for automotive use. These products are currently classifiable under Harmonized Tariff Schedule of the United States (HTSUS) item numbers 8482.20.00, 8482.91.00.50, 8482.99.15, 8482.99.45, 8483.20.40, 8483.20.80, 8483.30.80, 8483.90.20, 8483.90.30, 8483.90.80, 8708.70.6060, 8708.99.2300, 8708.99.4850, 8708.99.6890, 8708.99.8115, and 8708.99.8180. Although the HTSUS item numbers are provided for convenience and customs purposes, the written description of the scope of the order is dispositive.³

² See Notice of Antidumping Duty Order; Tapered Roller Bearings and Parts Thereof, Finished or Unfinished, From the People's Republic of China, 52 FR 22667 (June 15, 1987) (Order).

³ For a complete description of the scope of the Order, see the “Issues and Decision Memorandum for the Antidumping Duty Changed Circumstances Review of Tapered Roller Bearings and Parts Thereof, Finished and Unfinished, from the People's Republic of China,” from Gary Taverman, Associate Deputy Assistant Secretary for Antidumping and Countervailing Duty Operations, to Paul Piquado, Assistant Secretary for Antidumping and Countervailing Duty Operations, dated concurrently with, and adopted by, this notice (Issues and Decision Memo).

Basis for Reinstatement

In requesting revocation, pursuant to 19 CFR 353.25(b) (1996) and 19 CFR 353.25(a)(2)(iii) (1996),⁴ SGBC/SKF agreed to immediate reinstatement of the order, so long as any exporter or producer is subject to the order, if the Secretary concludes that subsequent to the revocation, SGBC/SKF sold TRBs at less than NV.⁵ Under 19 CFR 353.25(a)(2)(iii) (1996), as long as any exporter or producer is subject to an antidumping duty order which remains in force, an entity previously granted a revocation may be reinstated under that order if it is established that the entity has resumed the dumping of subject merchandise.

⁴ The regulation that was in effect when SGBC/SKF requested revocation was amended in 1997 to become 19 CFR 351.222(b). This regulation was then revoked in 2012. See Modification to Regulation Concerning the Revocation of Antidumping and Countervailing Duty Orders, 77 FR 29875 (May 21, 2012). However, when revoking this regulation, the Department noted that “[a]ny company that has been revoked from an antidumping . . . order will remain subject to its certified agreement to be reinstated with respect to that order if the Department finds it to have resumed dumping . . . .” See id. at 29882.

⁵ See Tapered Roller Bearings and Parts Thereof, Finished and Unfinished, From the People's Republic of China; Final Results of Antidumping Duty Administrative Review and Revocation in Part of Antidumping Duty Order, 62 FR 6189 (February 11, 1997) (for the 1993-1994 review) (SGBC/SKF Revocation).

In this case, because other exporters in the PRC remain subject to the TRBs order, the order remains in effect, and SGBC/SKF may be reinstated in the order. The Department granted SGBC/SKF revocation based, in part, upon its agreement to immediate reinstatement in the antidumping duty order if the Department were to find that the company resumed dumping of TRBs from the PRC.⁶

⁶ See SGBC/SKF Revocation, 62 FR at 6214.

As discussed in the Issues and Decision Memo, we examined SGBC/SKF's response and preliminarily found that SGBC/SKF's dumping margin for the review period is greater than de minimis. Accordingly, we are reinstating SGBC/SKF in the antidumping duty order on TRBs from the PRC.

Analysis of Comments Received

All issues raised in the case and rebuttal briefs by parties to this changed circumstances review are addressed in the Issues and Decision Memo. A list of the issues which parties raised and to which we respond in the Issues and Decision Memo is attached to this notice as an Appendix. The Issues and Decision Memo is a public document and is on file electronically via Enforcement and Compliance's Antidumping and Countervailing Duty Centralized Electronic Service System (ACCESS). ACCESS is available to registered users at https://access.trade.gov, and it is available to all parties in the Central Records Unit, room B8024 of the main Department of Commerce building. In addition, a complete version of the Issues and Decision Memo can be accessed directly at http://enforcement.trade.gov/frn/. The signed Issues and Decision Memo and the electronic version of the Issues and Decision Memo are identical in content.

Changes Since the Preliminary Results

Based on our analysis of the comments received, we made changes in the margin calculation for SGBC/SKF. These changes are discussed in the relevant sections of the Issues and Decision Memo.

Final Results of Review

The Department determines that the following weighted-average dumping margin exists for the period June 1, 2014, through May 31, 2015:

Manufacturer/exporter | Weighted-average dumping margin (percent)
Shanghai General Bearing Co., Ltd. | 5.82

Disclosure

We intend to disclose the calculations performed within five days of the date of publication of this notice to parties in this proceeding in accordance with 19 CFR 351.224(b).

Cash Deposit Requirements

Because we established that TRBs from the PRC manufactured and exported by SGBC/SKF are being sold at less than NV, SGBC/SKF is hereby reinstated in the antidumping duty order on TRBs from the PRC effective upon the publication of this notice in the Federal Register. We will instruct U.S. Customs and Border Protection (CBP) to collect a cash deposit equal to the margin listed above on all entries of subject merchandise manufactured and exported by SGBC/SKF that are entered, or withdrawn from warehouse, for consumption on or after the publication date of this notice. This deposit requirement, when imposed, shall remain in effect until further notice.

Notifications to Interested Parties

This notice serves as the only reminder to parties subject to administrative protective order (APO) of their responsibility concerning the disposition of proprietary information disclosed under APO in accordance with 19 CFR 351.305(a)(3). Timely written notification of return or destruction of APO materials, or conversion to judicial protective order, is hereby requested. Failure to comply with the regulations and the terms of an APO is a sanctionable violation.

We are issuing and publishing these results of review in accordance with sections 751(b)(1) and 777(i)(1) of the Act and 19 CFR 351.216.

Dated: January 10, 2017.
Paul Piquado,
Assistant Secretary for Enforcement and Compliance.

Appendix I

List of Topics Discussed in the Issues and Decision Memorandum

1. Summary

2. Background

3. Scope of the Order

4. Margin Calculations

5. Discussion of the Issues

a. Factor Reporting Methodology

b. Surrogate Value for Truck Freight

c. Ministerial Errors

d. Adjustment to Inland Freight for Subcontracted Parts

e. Differential Pricing Analysis

6. Recommendation

[FR Doc. 2017-00826 Filed 1-13-17; 8:45 am]

BILLING CODE 3510-DS-P